COMMISSION ON CIVIL RIGHTS

Agenda and Notice of Public Meeting of the Hawaii State Advisory Committee

Notice is hereby given, pursuant to the provisions of the rules and regulations of the U.S. Commission on Civil Rights and the regulations of the Federal Advisory Committee Act (FACA), that a planning meeting and briefing of the Hawaii Advisory Committee will convene at 10 p.m. and adjourn at 5 p.m. on Wednesday, September 5, 2007 in the South Pacific Ballroom of the Hilton Hawaiian Village Hotel located at 2005 Kalia Road, in Honolulu, Hawaii. The purpose of the planning meeting is for the committee to consider future projects and the purpose of the briefing is to hear from experts about the “The Native Hawaiian Government Reorganization Act of 2007.”

Members of the public are entitled to submit written comments; the comments must be received in the Western Regional Office by September 10, 2007. The address is 300 North Los Angeles Street, Suite 2010, Los Angeles, CA 90012. Persons wishing to e-mail their comments, or to present their comments verbally at the meeting, or who desire additional information should contact Angelica Trevino, Secretary, Western Regional Office, U.S. Commission on Civil Rights at (213) 894-3437 [TDY] 213-894-3435, or by e-mail at atrevino@usccr.gov.

Hearing impaired persons who will attend the meeting and require the services of a sign language interpreter should contact the Eastern Regional Office at least ten (10) working days before the scheduled date of the planning meeting.

Records generated from this meeting may be inspected and reproduced at the Western Regional Office, as they become available, both before and after the meeting. Persons interested in the work of this advisory committee are advised to go to the Commission's Web site, http://www.usccr.gov, or to contact the Eastern Regional Office at the above e-mail or street address.

The meeting will be conducted pursuant to the provisions of the rules and regulations of the Commission and FACA.

Dated at Washington, DC, August 17, 2007.
Ivy L. Davis,
Acting Chief, Regional Programs Coordination Unit.

[FR Doc. E7-16544 Filed 8-21-07; 8:45 am]

BILLING CODE 6335-01-P